DEPARTMENT OF VETERANS AFFAIRS

[OMB Control No. 2900-New (NCA Emerging Burial Survey Needs)]

Agency Information Collection Activities Under OMB Review

AGENCY: National Cemetery Administration, Department of Veterans Affairs.

ACTION: Notice.

SUMMARY: In compliance with the Paperwork Reduction Act (PRA) of 1995 (44 U.S.C. 3501-21), this notice announces that the National Cemetery Administration (NCA), Department of Veterans Affairs, has submitted the collection of information abstracted below to the Office of Management and Budget (OMB) for review and comment. The PRA submission describes the nature of the information collection and its expected cost and burden; it includes the actual data collection instrument.

DATES: Comments must be submitted on or before December 24, 2012.

ADDRESSES: Submit written comments on the collection of information through www.Regulations.gov; or to VA's OMB Desk Officer, OMB Human Resources and Housing Branch, New Executive Office Building, Room 10235, Washington, DC 20503 (202) 395-7316. Please refer to “OMB Control No. 2900-New (NCA Emerging Burial Survey Needs) in any correspondence.

FOR FURTHER INFORMATION CONTACT: Crystal Rennie, Enterprise Records Service (005R1B), Department of Veterans Affairs, 810 Vermont Avenue NW., Washington, DC 20420, (202) 632-7492, FAX (202) 632-7583 or email: crystal.rennie@va.gov. Please refer to “OMB Control No. 2900-New (NCA Emerging Burial Survey Needs).”

SUPPLEMENTARY INFORMATION:

Titles: NCA Emerging Burial Survey Needs.

a. 2012 Veterans Burial Benefits Survey

b. Focus Group

c. New and Emerging Burial Practices Study: Structured Interview Guide.

OMB Control Number: 2900-New (NCA Emerging Burial Survey Needs).

Type of Review: New data collection.

Abstract: NCA has over the past several years made significant efforts to evaluate its burial program. In 2008, NCA completed the first comprehensive evaluation of its burial benefits program, which included a nation-wide survey of Veterans that, among other things, assessed the reasons that Veterans choose—or do not choose—burial in a national cemetery. Although the survey assessed what types of interment practices were currently available through NCA and evaluated Veterans' preferences for existing interment practices, it did not determine Veterans' preferences for interment options that were beyond what was currently offered by VA at that time. NCA now seeks to both update the their understanding of the Veterans' satisfaction with NCA's current services, and to understand what additional internment options might be of interest to our Veterans and how they would view the inclusion of these options at the national cemeteries or other venues. The survey and focus groups will form the basis for review of various policies and the performance of follow-on research into specific emerging interment options.

An agency may not conduct or sponsor, and a person is not required to respond to a collection of information unless it displays a currently valid OMB control number. The Federal Register Notice with a 60-day comment period soliciting comments on this collection of information was published on September 13, 2012, at pages 56713-56714.

Affected Public: Individuals or households

Estimated Annual Burden:

a. 2012 Veterans Burial Benefits Survey—3,572 hours.

b. Focus Group—240 hours.

c. New and Emerging Burial Practices Study: Structured Interview Guide—75 hours.

Estimated Average Burden Per Respondent:

a. 2012 Veterans Burial Benefits Survey—14 minutes.

b. Focus Group—90 minutes.

c. New and Emerging Burial Practices Study: Structured Interview Guide—90 minutes.

Frequency of Response: One time.

Estimated Number of Respondents:

a. 2012 Veterans Burial Benefits Survey—15,307.

b. Focus Group—160.

c. New and Emerging Burial Practices Study: Structured Interview Guide—50.

Dated: November 19, 2012.
By direction of the Secretary.
Robert C. McFetridge,
Director, Office of Regulations Policy and Management, Office of the General Counsel, Department of Veterans Affairs.

[FR Doc. 2012-28453 Filed 11-21-12; 8:45 am]

BILLING CODE 8320-01-P